DEPARTMENT OF THE INTERIOR

Bureau of Land Management

[CA-330-1820—AE]

Resource Advisory Council Meeting

AGENCY: Northwest California Resource Advisory Council; Arcata, CA; Bureau of Land Management, Interior.

ACTION: Notice of meeting location change.

SUMMARY: Pursuant to the authorities in the Federal Advisory Committees Act (Public Law 92-463) and the Federal Land Policy and Management Act (Public Law 94-579), the U.S. Bureau of Land Management's Northwest California Resource Advisory Council will meet Wednesday and Thursday, April 18 and 19, 2001, for a business meeting and field tour. The meeting and tour are open to the public, but anyone attending must provide their own transportation and lunch. The location of the field tour has been changed from the proposed Lost Coast Headlands Project to the Falk town site in the Headwaters Forest Reserve.

SUPPLEMENTARY INFORMATION: The original meeting notice was published in the Federal Register on March 28, 2001 (Vol. 66, No. 60, page 16958). Details of the meeting are unchanged from that publication.

FOR ADDITIONAL INFORMATION CONTACT: Lynda J. Roush, Arcata Field Manager, at (707) 825-2300.

Joseph J. Fontana,
Public Affairs Officer.

[FR Doc. 01-8962 Filed 4-10-01; 8:45 am]

BILLING CODE 4310-40-P